NUCLEAR REGULATORY COMMISSION

[Docket No. 70-7004-ML; ASLBP No. 05-838-01-ML]

USEC, Inc. (American Centrifuge Plant); Notice of Reconstitution

Pursuant to 10 CFR 2.321, the Atomic Safety and Licensing Board in the above captioned USEC, Inc. proceeding, is hereby reconstituted by appointing Administrative Judge Peter S. Lam in place of Administrative Judge Paul B. Abramson.

In accordance with 10 CFR 2.302, henceforth all correspondence, documents, and other material relating to any matter in this proceeding over which this Licensing Board has jurisdiction should be served on Administrative Judge Lam as follows: Administrative Judge Peter S. Lam, Atomic Safety and Licensing Board Panel, U.S. Nuclear Regulatory Commission, Washington, DC 20555-0001.

Issued at Rockville, Maryland this 22nd day of September 2006.
E. Roy Hawkens,
Chief Administrative Judge, Atomic Safety and Licensing Board Panel.

[FR Doc. E6-15921 Filed 9-27-06; 8:45 am]

BILLING CODE 7590-01-P